DEPARTMENT OF THE TREASURY

Internal Revenue Service

26 CFR Part 1

[REG-154920-01]

RIN 1545-BA33

Guidance Regarding the Definition of Foreign Personal Holding Company Income; Hearing Cancellation

AGENCY: Internal Revenue Service (IRS), Treasury.

ACTION: Cancellation of notice of public hearing on proposed rulemaking.

SUMMARY: This document provides notice of cancellation of a public hearing on proposed regulations under section 954 of the Internal Revenue Code.

DATES: The public hearing originally scheduled for September 11, 2002, at 10 a.m., is cancelled.

FOR FURTHER INFORMATION CONTACT: Treena Garrett of the Regulations Unit, Associate Chief Counsel (Income Tax and Accounting), (202) 622-7180 (not a toll-free number).

SUPPLEMENTARY INFORMATION: A notice of proposed rulemaking and notice of public hearing that appeared in the Federal Register on May 13, 2002, (67 FR 31995), announced that a public hearing was scheduled for September 11, 2002, at 10 a.m., in room 4718, Internal Revenue Service Building, 1111 Constitution Avenue, NW., Washington, DC. The subject of the public hearing is proposed regulations under section 954 of the Internal Revenue Code. The public comment period for these proposed regulations expired on August 21, 2002.

The notice of proposed rulemaking and notice of public hearing, instructed those interested in testifying at the public hearing to submit a request to speak and an outline of the topics to be addressed. As of August 27, 2002, no one has requested to speak. Therefore, the public hearing scheduled for September 11, 2002, is cancelled.

Cynthia E. Grigsby,
Chief, Regulations Unit, Associate Chief Counsel (Income Tax and Accounting).

[FR Doc. 02-22377 Filed 8-30-02; 8:45 am]

BILLING CODE 4830-01-P